DEPARTMENT OF THE TREASURY

Financial Crimes Enforcement Network

Proposed Collection; Comment Request; Renewal With Changes to a Currently Approved Collection; the Registration of Money Services Business (MSB), FinCEN Report 107, To Incorporate Changes to the MSB Definitions and Add Provisions for Prepaid Access

AGENCY: Financial Crimes Enforcement Network (“FinCEN”), Treasury.

ACTION: Notice and request for comments.

SUMMARY: As part of its continuing effort to reduce paperwork and respondent burden, FinCEN invites comment on a proposed information collection contained in a revised form, Registration of Money Services Business, FinCEN Form 107. The form will be used by dealers in foreign exchange; check cashers; issuers, sellers, and redeemers of traveler's checks and money orders; providers of prepaid access; and money transmitters to register with the Department of the Treasury as required by statute. This request for comments is being made pursuant to the Paperwork Reduction Act of 1995, Public Law 104-13, 44 U.S.C. 3506(c)(2)(A).

DATES: Written comments are welcome and must be received on or before December 5, 2011.

ADDRESSES: Written comments should be submitted to: Office of Regulatory Policy and Programs Division, Financial Crimes Enforcement Network, Department of the Treasury, P.O. Box 39, Vienna, Virginia 22183, Attention: PRA Comments—MSB Registration—Form 107. Comments also may be submitted by electronic mail to the following Internet address: regcomments@fincen.gov, again with a caption, in the body of the text, “Attention: PRA Comments—MSB Registration—Form 107.”

Inspection of comments: Comments may be inspected, between 10 a.m. and 4 p.m., in the FinCEN reading room in Vienna, VA. Persons wishing to inspect the comments submitted must request an appointment with the Disclosure Officer by telephoning (703) 905-5034 (Not a toll free call).

FOR FURTHER INFORMATION CONTACT: The FinCEN Regulatory helpline at (800) 949-2732 and select Option 1.

SUPPLEMENTARY INFORMATION: Title: Registration of Money Services Business.

OMB Number: 1506-0013.

Form Number: FinCEN Form 107.

Abstract: The statute generally referred to as the “Bank Secrecy Act,” (“BSA”) Titles I and II of Public Law 91-508, as amended, codified at 12 U.S.C. 1829b, 12 U.S.C. 1951-1959, and 31 U.S.C. 5311-5330, authorizes the Secretary of the Treasury, inter alia, to issue regulations requiring records and reports that are determined to have a high degree of usefulness in criminal, tax, and regulatory matters. Regulations implementing Title II of the BSA (codified at 31 U.S.C. 5311-5330) appear at 31 CFR chapter X. The authority of the Secretary to administer the BSA has been delegated to the Director of FinCEN.

Under 31 U.S.C. 5330 and its implementing regulations, money services businesses must register with the Department of the Treasury, maintain a list of their agents, and renew their registration every two years. Currently, money services businesses register by filing FinCEN Form 107, which is being revised to incorporate changes to the MSB definitions ¹ and provide for prepaid access program ² information. The information collected on the form is required to comply with 31 U.S.C. 5330 and its implementing regulations. The information will be used to assist supervisory and law enforcement agencies in the enforcement of criminal, tax, and regulatory laws and to prevent money services businesses from being used by those engaging in money laundering, terrorist financing and other illicit financial crimes. The collection of information is mandatory.

¹ See 76 FR 43585, dated July 21, 2011.

² See 76 FR 45403, dated July 29, 2011.

Current Actions: The current FinCEN Form 107 and instructions are being revised to update the information collection tool as follows:

Part I adds Item 1e, RMSB Registration number for all but initial registrations.

Part II expands Item 3 into separate fields to record last name/entity, adds a check box to indicate “if entity,” adds first name and middle initial boxes. In Item 6, adds AKA to the DBA entry, adds a box to indicate a foreign country, adds a box to indicate the type of taxpayer identification number (TIN), adds a space for recording a Web site (URL) address if available, and adds spaces to identify the name and phone number of the compliance contact person for the MSB.

Part III repeats the same name entry expansion, TIN and TIN type as in part II. E-mail address and Web site info is added and removes ID information box 23 on the current form.

Part IV adds a check box to indicate foreign locations, adds to the MSB services provided check boxes to indicate seller of prepaid access and provider of prepaid access, and updates the existing terminology to match the new MSB definitions. Added to part IV is an entry to list financial services being provided that are in addition to those already indicated. Added in part IV are a series of information boxes regarding prepaid access that are to be completed if the registrant is a provider of prepaid access. This revision adds the name of the prepaid program, the IIN/BIN (first six numbers), the name of the processor, and compliance point of contact to include the phone number and provides a check box to indicate if the listed program is useable internationally. This revision updates part IV to clarify reporting the number of U.S. agents providing MSB services.

Part V, Primary Transaction Account for MSB Activities, adds depository institution routing number, depository institution IBAN if foreign, country code, type of financial institution (depository institution, non-depository or foreign) in addition to existing information.

Parts VI and VII change the name to add, respectively, address and signature of the Agent for Service of Process.

Type of Review: Renewal with change of a currently approved collection report.

Affected public: Individuals, business or other for-profit institutions, and not-for-profit institutions.

Frequency: Every two years.³

³ Per 31 CFR 1022.380(b)(2).

Estimated Burden: Reporting average of 30 minutes per response; recordkeeping average of 30 minutes per response.

Estimated number of respondents: 44,300.

Estimated Total Annual Burden Hours: 22,150 hours.

An agency may not conduct or sponsor, and a person is not required to respond to, a collection of information unless the collection of information displays a valid Office of Management and Budget (OMB) control number. Records required to be retained under the BSA must be retained for five years. Generally, information collected pursuant to the BSA is confidential, but may be shared as provided by law with regulatory and law enforcement authorities.

Request for Comments:

Comments submitted in response to this notice will be summarized and/or included in the request for OMB approval. All comments will become a matter of public record. Comments are invited on: (a) Whether the collection of information is necessary for the proper performance of the functions of the agency, including whether the information shall have practical utility; (b) the accuracy of the agency's estimate of the burden of the collection of information; (c) ways to enhance the quality, utility, and clarity of the information to be collected; (d) ways to minimize the burden of the collection of information on respondents, including through the use of automated collection techniques or other forms of information technology; (e) estimates of capital or start-up costs and costs of operation, maintenance and purchase of services to provide information; (f) whether it is a business practice for providers of prepaid access to contract with more than one payment processor and if so, please explain why and how many; and (g) any other aspect of the revised form and instructions.

Dated: September 26, 2011.
Nicholas Colucci,
Acting Director, Financial Crimes Enforcement Network.

BILLING CODE 4810-02-P

[FR Doc. 2011-25607 Filed 10-5-11; 8:45 am]

BILLING CODE 4810-02-C